NUCLEAR REGULATORY COMMISSION

[Docket Nos. 50-206, 50-361, and 50-362; NRC-2022-0219]

Southern California Edison; San Onofre Nuclear Generating Station, Units 1, 2, and 3

AGENCY: Nuclear Regulatory Commission.

ACTION: Environmental assessment and finding of no significant impact; issuance.

SUMMARY: The U.S. Nuclear Regulatory Commission (NRC) is issuing a finding of no significant impact (FONSI) and accompanying environmental assessment (EA) for a requested exemption from certain NRC requirements regarding the Controlled Area Boundary (CAB) for the San Onofre Nuclear Generating Station (SONGS) located in San Diego County, California. Based on the analysis in the EA, the NRC staff has concluded that there will be no significant impacts to environmental resources from the requested exemption and, therefore, a FONSI is appropriate.

DATES: The EA and FONSI referenced in this document are available on December 28, 2022.

ADDRESSES: Please refer to Docket ID NRC-2022-0219 when contacting the NRC about the availability of information regarding this document. You may obtain publicly available information related to this document using any of the following methods:

• Federal Rulemaking website: Go to https://www.regulations.gov and search for Docket ID NRC-2022-0219. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The `Environmental Assessment for the Controlled Area Boundary Exemption for SONGS in San Diego County, California' is available in ADAMS under Accession No. ML22341A195.

• Project website: Information related to the SONGS decommissioning project can be accessed on the NRC's public website at https://www.nrc.gov/info-finder/decommissioning/power-reactor/songs/decomm-plans/publ-avail-doc.html. In the publicly available documents table, the document is titled `Environmental Assessment for the Controlled Area Boundary Exemption for SONGS in San Diego County, California.'

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Jean Trefethen, Office of Nuclear Material Safety and Safeguards, U.S. Nuclear Regulatory Commission, Washington, DC 20555-0001, telephone: 301-415-0867, email: Jean.Trefethen@nrc.gov.

SUPPLEMENTARY INFORMATION:

I. Summary

The NRC staff has evaluated the environmental impacts of a requested exemption from paragraph 72.106(b) of title 10 of the Code of Federal Regulations (10 CFR), which requires the distance from an Independent Spent Fuel Storage Installation (ISFSI) to the ISFSI CAB to be a minimum of 100 meters (the proposed action). This EA has been prepared pursuant to the NRC regulations in 10 CFR part 51, which implement the requirements of the National Environmental Policy Act of 1969. The EA concludes there are no environmental impacts from the proposed action and a FONSI is appropriate. The EA describes the requested exemption by Southern California Edison (SCE) to reduce the CAB to the SONGS perimeter fence line. This exemption will allow the minimum distance from the closest ISFSI storage location to the CAB to be 38 meters on the western (seaward) side and 95 meters on the eastern (landward) side. Since SCE will no longer control areas beyond its perimeter, SCE will modify post-accident emergency agreements. SCE has agreements with Camp Pendleton, State, and local authorities to remove people from these areas during emergencies such as hostile action, natural disaster, or fire. The reduction of the CAB presents no additional risk to the public and it satisfies a lease condition between SCE and the California State Lands Commission.

The requested exemption is an administrative action and does not involve any construction or ground disturbing activities. The EA evaluated any environmental impacts including impacts to occupational health and impacts from potential acts of terrorism. The NRC has concluded that there are no impacts to land, air, or water resources. The probability of a significant radioactive release caused by a terrorist attack remains very low, and the potential health and land contamination effects of the most severe plausible attack would not be altered by the proposed CAB as compared to the existing CAB.

II. Finding of No Significant Impact

Based on its review of the proposed action, in accordance with the requirements in 10 CFR part 51, the NRC staff has concluded that the requested exemption to the ISFSI CAB boundary will not have a significant environmental impact as discussed in the EA and will not significantly affect the quality of the environment. Therefore, the NRC staff has determined, pursuant to 10 CFR 51.31, that preparation of an environmental impact statement is not required for the proposed action and a FONSI is appropriate.

Dated: December 21, 2022.
For the Nuclear Regulatory Commission.
Christopher M. Regan,
Director, Division of Rulemaking, Environmental and Financial Support, Office of Nuclear Material Safety, and Safeguards.

[FR Doc. 2022-28160 Filed 12-27-22; 8:45 am]

BILLING CODE 7590-01-P